DEPARTMENT OF TRANSPORTATION

Federal Aviation Administration

14 CFR Part 107

[Docket No. FAA-2025-2473]

Accepted Means of Compliance for Small Unmanned Aircraft (sUA) Category 2 and Category 3 Operations Over Human Beings; ParaZero Technologies Ltd. (ParaZero)

AGENCY: Federal Aviation Administration (FAA), Department of Transportation (DOT).

ACTION: Notification of availability.

SUMMARY: This document announces the acceptance of a means of compliance with FAA regulations for sUA Category 2 and Category 3 operations over human beings. The Administrator finds that ParaZero's “ParaZero Part 107 Operations Over People Means of Compliance,” version 1.5, dated February 4, 2026, provides an acceptable means, but not the only means, of showing compliance with FAA regulations.

DATES: The means of compliance are accepted effective March 2, 2026.

FOR FURTHER INFORMATION CONTACT:

FAA Contact: Mike Thompson, Cabin Safety Section, AIR-624, Technical Policy Branch, Policy and Standards Division, Aircraft Certification Service, Federal Aviation Administration, 2200 South 216th Street, Des Moines, Washington 98198; telephone (206) 231-3188; email Michael.T.Thompson@faa.gov.

ParaZero Contact: Boaz Shetzer, CEO, 1 Hatachna Street, Kfar Saba, Israel 4453001, +972 50 275 3666; email contact@parazero.com.

SUPPLEMENTARY INFORMATION:

Background

Title 14, Code of Federal Regulations, part 107, subpart D, prescribes the eligibility and operating requirements for civil sUA to operate over human beings in the United States. To be eligible for use, the sUA must meet the requirements of § 107.120(a) for Category 2 operations or § 107.130(a) for Category 3 operations. These sections require the sUA to be designed, produced or modified such that it will not cause injury to a human being above a specified severity limit, does not contain any exposed rotating parts that would lacerate human skin, and does not contain any safety defects. Section 107.155 requires that means of compliance with § 107.120(a) or § 107.130(a) be established and FAA-accepted. Section 107.160 requires an applicant to declare that sUA for Category 2 or Category 3 operations meet an FAA-accepted means of compliance.

Means of Compliance Accepted

This notification of availability serves as a formal acceptance by the FAA of ParaZero's “ParaZero Part 107 Operations Over People Means of Compliance,” version 1.5, as an acceptable means of compliance, but not the only means of compliance with §§ 107.120(a) and 107.130(a). Applicants may also propose alternative means of compliance for FAA review and possible acceptance.

Revisions

Revisions to ParaZero's “ParaZero Part 107 Operations Over People Means of Compliance,” version 1.5, will not be automatically accepted and will require further FAA acceptance for any revisions to be considered an accepted means of compliance. Issued in Kansas City, Missouri, on February 25, 2026.

Patrick R. Mullen,
Manager, Technical Policy Branch, Policy and Standards Division, Aircraft Certification Service.

[FR Doc. 2026-04077 Filed 2-27-26; 8:45 am]

BILLING CODE 4910-13-P